SMALL BUSINESS ADMINISTRATION

[Disaster Declaration # 14903 and # 14904]

Mississippi Disaster # MS-00092

AGENCY: U.S. Small Business Administration.

ACTION: Notice.

SUMMARY: This is a notice of an Administrative declaration of a disaster for the State of Mississippi dated 10/06/2016.

Incident: Severe Storms and Flooding.

Incident Period: 08/12/2016 through 08/14/2016.

Effective Date: 10/06/2016.

Physical Loan Application Deadline Date: 12/05/2016.

Economic Injury (EIDL) Loan Application Deadline Date: 07/06/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Wilkinson

Contiguous Counties:

Mississippi: Adams, Amite, Franklin

Louisiana: Concordia, East Feliciana, West Feliciana

The Interest Rates are:

| Percent
For Physical Damage:
Homeowners With Credit Available Elsewhere | 3.125
Homeowners Without Credit Available Elsewhere | 1.563
Businesses With Credit Available Elsewhere | 6.250
Businesses Without Credit Available Elsewhere | 4.000
Non-Profit Organizations With Credit Available Elsewhere | 2.625
Non-Profit Organizations Without Credit Available Elsewhere | 2.625
For Economic Injury:
Businesses & Small Agricultural Cooperatives Without Credit Available Elsewhere | 4.000
Non-Profit Organizations Without Credit Available Elsewhere | 2.625

The number assigned to this disaster for physical damage is 14903 B and for economic injury is 14904 0.

The States which received an EIDL Declaration # are Mississippi; Louisiana.

(Catalog of Federal Domestic Assistance Number 59008)

Dated: October 6, 2016.
Maria Contreras-Sweet,
Administrator.

[FR Doc. 2016-24921 Filed 10-13-16; 8:45 am]

BILLING CODE 8025-01-P